DEPARTMENT OF THE INTERIOR

Bureau of Indian Affairs

Notice of Intent To Prepare an Environmental Impact Statement for the Proposed Hannahville Tribe of Potawatomi Indians' Hotel and Casino Project, Romulus, MI

AGENCY: Bureau of Indian Affairs, Interior.

ACTION: Notice.

SUMMARY: This notice advises the public that the Bureau of Indian Affairs (BIA) as lead agency, with Hannahville Tribe of Potawatomi Indians (Tribe) as a cooperating agency, intends to gather information necessary for preparing an Environmental Impact Statement (EIS) for a proposed hotel and casino project to be located on 9.8 acres of a 24.8 acre parcel owned by the Tribe in Romulus, Michigan. The purpose of the proposed action is to help address the socioeconomic needs of the Tribe. This notice also announces a public scoping meeting to identify public and agency concerns and alternatives to be considered in the EIS. The Tribes' application seeks to have a portion of the off-reservation parcel taken into trust pursuant to Section 5 of the Indian Reorganization Act and implementing regulations in 25 CFR part 151, and requests a Secretarial determination pursuant to Section 20(b)(1)(A) of the Indian Gaming Regulatory Act that a proposed gaming establishment on the parcel would be in the best interest of the Tribe and its members, and not detrimental to the surrounding community. We are aware that some members of the public have expressed concerns about off-reservation gaming. In this case, the parcel is located over 450 miles from the Tribe's reservation. We are soliciting and will consider accommodating the views of elected officials (State, county, city, etc.) and community members in the local areas as part of our decision-making process. We also plan a more detailed consideration of the broad implications associated with new gaming operations within established communities where gaming is not currently conducted.

DATES: The public hearing will be held March 8, 2007, starting at 7 p.m. and continuing until all those who wish to make statements have been heard. Written comments on the scope and implementation of this proposal must arrive by March 26, 2007.

ADDRESSES: The public scoping meeting will be at the Crowne Plaza Hotel Detroit Metro Airport, 800 Merriman Road, Romulus, Michigan 48174. It will be co-hosted by the BIA and the Tribe. You may mail or hand-carry written comments to Terrance L. Virden, Regional Director, Midwest Region, Bureau of Indian Affairs, Bishop Henry Whipple Federal Building, One Federal Drive, Room 550, Ft. Snelling, Minnesota 55111.

FOR FURTHER INFORMATION CONTACT: Scott Doig, (612) 725-4514.

SUPPLEMENTARY INFORMATION: The proposed project is located on a 24.8-acre site in the City of Romulus, Michigan. The site is situated north of the Detroit Metropolitan Airport, approximately 0.5 miles north of Interstate 94 and 20 miles east of Detroit, Michigan. As part of the project, the U.S. Department of the Interior, on behalf of the Tribe, will consider whether or not to take 9.8 acres of the 24.8-acre project site into federal trust. In addition to the proposed action, a reasonable range of alternatives, which will include a no-action alternative and may include an on-reservation alternative, will be considered during the NEPA compliance process.

The Tribe consists of approximately 780 members. A Tribal Council, under a federally approved constitution, governs tribal affairs. The United States presently holds approximately 5,800 acres of land in the upper peninsula of the State of Michigan in trust for the Tribe.

Public Comment Availability

Comments including names and addresses of respondents, will be available for public review at the BIA address show in the ADDRESSES section, during business hours, 8 a.m. to 4:30 p.m., Monday through Friday, except holidays. Individual respondents may request confidentiality. If you wish us to withhold your name and/or address from public review or from disclosure under the freedom of Information Act, you must state this prominently at the beginning of your written comment. Such requests will be honored to the extent allowed by the law. All submissions from organizations or businesses, and from individuals identifying themselves as representatives or officials of organizations or businesses, will be made available for public inspection in their entirety.

Authority: This notice is published in accordance with section 1503.1 of the Council on Environmental Quality regulations (40 CFR parts 1500 through 1508) implementing the procedural requirements of the National Environmental Policy Act of 1969, as amended (42 U.S.C. 4321 et seq.), the Department of the Interior Manual (516 DM 1-6), and is in the exercise of authority delegated to the Principal Deputy Assistant Secretary—Indian Affairs by 209 DM8.

Dated: February 8, 2007.
Michael D. Olsen,
Principal Deputy Assistant Secretary—Indian Affairs.

[FR Doc. 07-678 Filed 2-13-06; 8:45 am]

BILLING CODE 4310-W7-M